FEDERAL RETIREMENT THRIFT INVESTMENT BOARD

Sunshine Act; Notice of Board Member Meeting

AGENCY: Federal Retirement Thrift Investment Board.

77 K Street NE., 10th Floor Board Room, Washington, DC 20002.

Agenda

Federal Retirement Thrift Investment Board Member Meeting.

November 29, 2016, In-Person, 8:30 a.m.

Open Session

1. Approval of the minutes for the October 31, 2016 Board Member Meeting

2. Monthly Reports

(a) Participant Activity Report

(b) Legislative Report (Verbal)

(c) Investment Performance and Policy Report

3. Quarterly Reports

(d) Metrics

(e) Project Activity

4. Office of Investment Report

5. Capital Market and L Fund

6. 2017 Proposed Internal Audit Schedule

7. Blended Retirement Update

Closed Session

Information covered under 5 U.S.C. 552b(c)(4), c(6), and (c)(9)(B).

Adjourn

CONTACT PERSON FOR MORE INFORMATION: Kimberly Weaver, Director, Office of External Affairs, (202) 942-1640.

Dated: November 16, 2016.
Megan Grumbine,
General Counsel, Federal Retirement Thrift Investment Board.

[FR Doc. 2016-27980 Filed 11-16-16; 4:15 pm]

BILLING CODE 6760-01-P